DELAWARE RIVER BASIN COMMISSION

Notice of Commission Meeting and Public Hearing

Notice is hereby given that the Delaware River Basin Commission will hold an informal conference followed by a public hearing on Wednesday, September 24, 2008. The hearing will be part of the Commission's regular business meeting. Both the conference session and business meeting are open to the public and will be held at the West Trenton Volunteer Fire Company, 40 West Upper Ferry Road, West Trenton, New Jersey.

The conference among the commissioners and staff will begin at 10:30 a.m. Topics of discussion will include: a Decree Parties' report; an annual update on implementation of the 2004 Water Resources Plan for the Delaware River Basin (“Basin Plan”); a report by the chair of the Commission's Water Quality Advisory Committee; a report by the chair of the Commission's Flood Advisory Committee; and a report on the status of development of the Flood Analysis Model, a project commenced in August 2007 at the request of the governors of the four Basin states, in accordance with a recommendation of the Interstate Flood Mitigation Task Force.

The subjects of the public hearing to be held during the 1:30 p.m. business meeting include the dockets listed below:

1. Burlington Country Club D-67-32-2. An application for approval of a ground and surface water withdrawal project to supply up to 3.1 million gallons per thirty days (mg/30 days) from new Wells Nos. 1A, 1R and C1, and to supply 8.4 mg/30 days from one new and one existing surface water intake for the applicant's golf course irrigation system. The withdrawal from all sources is proposed to be limited to 8.4 mg/30 days and 37.8 mg/year. The project is located in the Englishtown Formation in the Lower Delaware Watershed in Westampton Township, Burlington County, New Jersey.

2. Perkasie Borough Authority D-97-12 CP-3. An application for approval of a ground water withdrawal project to supply up to 11.67 million gallons per 30 days (mg/30 days) of water to the applicant's distribution system from new Well No. 7 in the Brunswick Formation and to retain the existing withdrawal from all wells at 40.2 mg/30 days. Proposed Well No. 7 will be used to replace some of the ground water supply from Perkasie Borough Authority's existing wells that may be lost due to regulatory changes limiting the concentration of arsenic in public drinking water supply. The project is located in the Three Mile Run and East Branch Perkiomen Creek Watersheds in Perkasie Borough, Bucks County, Pennsylvania, within the Southeastern Ground Water Protected Area.

3. Floyd G. Hersh, Inc. D-98-7-2. An application for the renewal of a ground water withdrawal project to continue withdrawal of 3.750 mg/30 days to supply the applicant's golf course irrigation system from existing Well No. PW-1 in the Brunswick Formation. The project is located in the Perkiomen—Macoby Creek Watershed in Marlborough Township, Montgomery County, Pennsylvania and is located in the Southeastern Pennsylvania Ground Water Protected Area.

4. Mercer County Improvement Authority d/b/a Mercer Oaks Golf Course D-99-28 CP-2. An application for renewal of an existing surface water intake and approval of two new ground water wells for golf course irrigation and to retain the existing withdrawal from all sources of 15 mg/30 days. The project is located in the Potomac-Raritan-Magothy Aquifer in the Assunpink Creek Watershed in West Windsor Township, Mercer County, New Jersey.

5. Washington Township Municipal Utilities Authority D-99-43 CP-2. An application for the renewal of a ground water withdrawal project to change existing Well No. 20 from an Aquifer Storage and Recovery well to a production well, to continue the total combined withdrawal of 273.01 mg/30 days from all fifteen wells, and to increase the allocation for Wells Nos. 2, 3, 4, 5, 8, 9, 15 and 20 from 109 mg/30 days to 133.81 mg/30 days to supply the applicant's public supply distribution system from existing Wells Nos. 2, 3, 4, 5, 8, 9, 10, 11, 14, 15, 16, 17, 18, 19, and 20 in the Mt. Laurel-Wenonah and Kirkwood-Cohansey Formations. The project is located in the Big Timber Creek and Mantua Creek watersheds in Washington Township, Gloucester County, New Jersey.

6. Lehigh County Authority D-2001-20 CP-3. An application to replace the withdrawal of water from Well No. WL-8 in the applicant's water supply system that has become an unreliable source of supply. The applicant requests that the withdrawal from replacement Well No. WL-8 be limited to 56.16 mg/30 days of water, and that the total withdrawal from all wells remain limited to 256.24 mg/30 days. The project is located in the Allentown Formation in the Little Lehigh Creek Watershed in Upper Macungie Township, Lehigh County, Pennsylvania. The site is located within the drainage area to the section of the non-tidal Delaware River known as the Lower Delaware, which is designated as Special Protection Waters.

7. Ambler Borough Water Department D-85-26 CP-4. An application for approval of a ground water withdrawal project to supply up to 4.75 mg/30 days of water to the applicant's public water supply distribution system from new Well No. 15 and to increase the existing withdrawal from all wells of 116 mg/30 days to 120.75 mg/30 days. The project is located in the Stockton Formation in the Wissahickon Creek Watershed in Lower Gwynedd and Upper Dublin Townships, Montgomery County, Pennsylvania, within the Southeastern Pennsylvania Ground Water Protected Area. The DRBC has recommended a reduction in the docket holder's allocation from 116 mg/30 days to 90 mg/30 days.

8. Croda, Inc., Docket No. D-88-74-3. An application for the renewal of a ground and surface water withdrawal project to increase withdrawal from 60.04 mg/30 days to 76.63 mg/30 days from existing Wells Nos. 8, 9, 10, 11, and 12 and to retain the existing allocation of 470.59 mg/30 days from Intake 1 to supply the applicant's industrial facility. The project ground water withdrawals are located in the Potomac Formation, in the Brandywine-Christina Watershed. The project surface water withdrawal is located on the west bank of the Delaware River, in Zone 5. The project is located south of Interstate Route 295 in New Castle County, Delaware. The DRBC has recommended a reduction in the docket holder's surface water withdrawal from 470.59 mg/30 days to 99.0 mg/30 days.

9. Concord Township Sewer Authority D-97-19 CP-2. An application to expand the 1.2 million gallon per day (mgd) Central sewage treatment plant (STP) to process 1.8 mgd, while continuing to provide tertiary treatment prior to discharging to West Branch Chester Creek in non-tidal waters. The Central STP is located off the intersection of Conchester Road (Route 322) and Baltimore Pike (Route 1) in Concord Township, Delaware County, Pennsylvania. The STP will continue primarily to serve Concord Township, but it also will serve small portions of Thornbury and Chester Heights Townships, also in Delaware County, Pennsylvania.

10. DS Waters of America and Nestlé Waters North America Inc. D-97-46-3. An application for the renewal of a spring water withdrawal project to continue withdrawal of 9.0 mg/30 days to supply the Applicant's spring water bottling facility from existing Spring Nos. 1 and 3 in the Tulpehocken Creek Watershed, in the Richland and Leithsville Formations, in Millcreek Township, Lebanon County, Pennsylvania. Additionally, Nestlé Waters North America Inc. has requested consideration for them to become a joint docket holder and they are proposing to change the exportation site of the 0.300 mgd of water from West Earl Township, Lancaster County, Pennsylvania to their site in Breinigsville, Lehigh County, Pennsylvania.

11. Upper Uwchlan Township D-2000-55 CP-2. An application for the approval of the expansion and modification to the existing Upper Uwchlan Township Route 100 Regional Wastewater Treatment Plant (WWTP) from 0.3 mgd to 0.6 mgd. The WWTP is located in Upper Uwchlan Township, Chester County, Pennsylvania. The WWTP will serve existing and proposed development along the Route 100 corridor in Upper Uwchlan Township, Chester County, Pennsylvania. The WWTP will discharge treated effluent to open space in new subdivisions being developed in the service area, in both the Pickering Creek and Marsh Creek watersheds, using both drip dispersal and spray irrigation.

12. Tidewater Utilities, Inc. D-2005-26 CP-2. An application for the renewal of a ground water withdrawal project to increase withdrawal from 3.85 mg/30 days to 29.458 mg/30 days to supply the applicant's North Dover and Garrisons Lake public supply distribution systems from existing Wells Nos. SF-01, SF-02 and KWE-02 in the Federalsburg and Cheswold Formations and new Wells Nos. 154547, 71057, 71058, 192844 and 109193 in the Cheswold and Piney Point Formations. The increased allocation is requested in order to interconnect formerly independent service districts and to meet projected increases in service area demand. The project is located in the Leipsic River Watershed in Kent County, Delaware.

13. UMH Properties, Inc. D-2007-22-1. An application for approval of a ground water withdrawal project to supply up to 6 mg/30 days of water to the applicant's Fairview Manor Mobile Home Park from new Wells Nos. 1 and 2 and to limit the existing withdrawal from all wells to 6 mg/30 days. The project is located in the Coastal Plains Aquifer in the Cohansey Watershed in Vineland City, Cumberland County, New Jersey.

14. Venice One Development D-2007-30-1. An application for the approval of the Venice One Development, which consists of four 6-story buildings comprising a total of 280 residential units and appurtenant ground level parking, both under and adjacent to the buildings, to be constructed on Venice Island, in the Manayunk Section of the City of Philadelphia, Pennsylvania. Under DRBC's Flood Plain Regulations, the Venice One Development is reviewable as a Class II project. Class II projects include any development of land—whether residential or non-residential—within a flood hazard area located in a non-tidal area of the basin, which contains more than 25 dwelling units or includes one or more structures covering a total land area of more than 50,000 square feet. The Venice One Development is to be constructed on Venice Island, which is located in the flood fringe portion of the flood hazard area. A flood hazard area is defined by DRBC FPR as the area inundated by a regulatory flood (100-year floodplain).

15. Waterford Apartments At Cotton Street Development D-2007-36-1. An application for the approval of the Waterford Development, which consists of one four-story building comprising a total of 205 residential units and appurtenant ground level parking, both under and adjacent to the buildings, to be constructed on Venice Island, in the Manayunk Section of the City of Philadelphia, Pennsylvania. Under DRBC's Flood Plain Regulations, the Waterford Development is reviewable as a Class II project. Class II projects include any development of land—whether residential or non-residential—within a flood hazard area located in a non-tidal area of the basin, which contains more than 25 dwelling units, or includes one or more structures covering a total land area of more than 50,000 square feet. The Waterford Apartment Project is to be constructed on Venice Island, which is located in the flood fringe portion of the flood hazard area. A flood hazard area is defined by DRBC FPR as the area inundated by a regulatory flood (100-year floodplain).

16. Pennsylvania American Water Company D-2008-2-1. An application for approval of the existing Yardley water treatment plant's 0.402 mgd backwash discharge to an unnamed tributary to Brock Creek. The water treatment plant discharges filter backwash and sludge filter press filtrate to the section of the non-tidal Delaware River known as the Lower Delaware, which is designated as Special Protection Waters. The facility is located in Yardley Borough, Bucks County, Pennsylvania.

17. Fralinger Farms D-2008-16-1. An application for the approval of a ground water withdrawal project to supply a maximum of 78.6 mg/30 days of water to the applicant's irrigation system for approximately 283 acres of fruit trees. The applicant's 15 wells are located in the Kirkwood-Cohansey Formation in the Cohansey River Watershed in Hopewell Township, Cumberland County, New Jersey. The DRBC has recommended a reduction in the docket holder's allocation from 78.6 mg/30 days to 18.75 mg/30 days.

The business meeting also will include adoption of the Minutes of the Commission's July 16, 2008 business meeting; announcements of upcoming advisory committee meetings and other events; a report on hydrologic conditions in the basin; a report by the Executive Director; and a report by the Commission's General Counsel. The meeting will include consideration by the Commission of a resolution amending the Water Code and Comprehensive Plan to implement a Flexible Flow Management Program for the New York City Delaware Basin Reservoirs. The Commission issued a notice of proposed rulemaking on these amendments on December 3, 2007. It announced it would accept comments on the proposed changes through January 18, 2008, a date that was later extended to March 3. It held a hearing on the proposed amendments on January 16, 2008. No hearing on this matter will take place on September 24. If the Commission approves the amendments, a detailed comment and response document will be issued upon filing of the amendments with each of the signatory parties in accordance with Section 14.2 of the Delaware River Basin Compact. The amendments cannot go into effect without the unanimous consent of the parties to the 1954 Supreme Court decree in New Jersey v. New York, 347 U.S. 995 (1954). Also during the business meeting, the Commission will hold a public hearing on a resolution amending the composition of the Water Quality Advisory Committee to add members from the environmental and academic sectors and a resolution authorizing the executive director to enter into an agreement for a sediment flux study of mercury in Water Quality Zone 5. It will consider a resolution authorizing the executive director to extend the Commission's 2002 agreement with Axys Analytical Services Ltd. for sampling and analysis of toxic substances in ambient water, wastewater and sediment samples from the Delaware Estuary. An opportunity for public dialogue will be provided at the end of the meeting.

Draft dockets scheduled for public hearing on September 24, 2008 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: September 2, 2008.
Pamela M. Bush,
Commission Secretary.

[FR Doc. E8-20700 Filed 9-5-08; 8:45 am]

BILLING CODE 6360-01-P